DEPARTMENT OF THE INTERIOR

Bureau of Reclamation

[INT-FES-04-09]

Banks Lake Drawdown, Columbia Basin Project, Washington

AGENCY: Bureau of Reclamation, Interior.

ACTION: Notice of availability of the Banks Lake Drawdown final environmental impact statement.

SUMMARY: Pursuant to section 102(2)(C) of the National Environmental Policy Act of 1969, as amended, the Department of the Interior, Bureau of Reclamation (Reclamation), has prepared a final environmental impact statement (Final EIS) that examines the impacts of annually lowering the water surface elevation of Banks Lake in August.

The Final EIS evaluates two alternatives. The Action Alternative describes the resource conditions that would occur with Banks Lake water surface elevations between 1570 feet and 1560 feet, while the No Action Alternative describes the conditions that would occur without the action, with surface elevation between 1570 feet and 1565 feet. Both the No Action and Action Alternatives include four possible operational scenarios that could occur within their respective ranges, depending upon the hydrology of each year. The Action Alternative refills the reservoir to elevation 1565 by September 10 and to 1570 feet by September 22. The No Action Alternative also refills to 1570 feet elevation by September 22.

The Final EIS includes the comment letters received on the Draft EIS and Reclamation's responses to those comments, as well as a summary of comments from the public hearings. Changes from the Draft EIS include minor revisions and additions to the analysis as a result of review comments. The No Action Alternative is identified as the preferred alternative in the Final EIS.

A Record of Decision (ROD) identifying the alternative chosen for implementation, and discussing factors for its selection, is anticipated by June, 2004.

ADDRESSES: Copies of the Final EIS are available for public review and inspection at the locations listed in the Supplementary Information Section.

FOR FURTHER INFORMATION CONTACT: Mr. Jim Blanchard, Special Projects Officer, at (509) 754-0226 (relay users may dial 711). Those wishing to obtain a copy of the Final EIS in the form of a printed document or a compact disk (CD-ROM with reader included), or a summary of the Final EIS may contact Mr. Blanchard.

SUPPLEMENTARY INFORMATION: Since its creation in the early 1950s, Banks Lake has been operated and maintained for the storage and delivery of irrigation water drawn from the Columbia River to Columbia Basin Project (CBP) lands. Reclamation operates the reservoir within established constraints on water surface elevation to meet contractual obligations, ensure public safety, and protect property. Reclamation considers other resource needs as feasible within existing operational constraints.

In December of 2000, the National Marine Fisheries Service issued a Biological Opinion (BiOp) to the Bureau of Reclamation, Bonneville Power Administration and the U.S. Army Corps of Engineers for the operation of the Federal Columbia River Power System. The BiOp's Reasonable and Prudent Alternative (RPA) included Action 31 that advised Reclamation to “assess the likely environmental effects of operation of Banks Lake up to 10 feet down from full pool during August.” Reclamation has completed RPA Action 31 by preparing the Banks Lake Drawdown Environmental Impact Statement which describes and analyzes the environmental effects of lowering the August surface elevation of Banks Lake annually to elevation 1560 feet, which is 10 feet below full pool.

Copies of the Final EIS are available for public review and inspection at the following locations:

• Bureau of Reclamation, U.S. Department of the Interior, Room 7455, 18th and C Streets, NW., Washington, DC 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

• Bureau of Reclamation, Ephrata Field Office, 32 C Street, Ephrata, Washington 98823.

Libraries

• Bridgeport Community Library, Douglas County, 1206 Columbia St., Bridgeport, WA (509) 686-7281.

• Coulee City Community Library, 405 W. Main St., Coulee City, WA (509) 674-2313.

• Des Moines Library, 21620 11th Ave. S, Des Moines, WA (206) 824-6066.

• East Wenatchee Community Library, Douglas County, 271 9th St, NE., East Wenatchee, WA (509) 886-7404.

• Ephrata Public Library, 45 Alder NW., Ephrata, WA (509) 754-3971.

• Grand Coulee Community Library, 225 Federal, Grand Coulee, WA (509) 633-0972.

• Moses Lake Public Library, 418 E. 5th Ave., Moses Lake, WA (509) 765-3489.

• Quincy Community Library, 108 B St., SW., Quincy, WA (509) 787-2359.

• Royal City Community Library, 356 Camelia, Royal City, WA (509) 346-9281.

• Seattle Public Library, 800 Pike St., Seattle, WA (206) 386-4636.

• Soap Lake Community Library, 32 E. Main, Soap Lake, WA (509) 246-1313.

• Warden Community Library, 305 S. Main, Warden, WA (509) 349-2226.

• Wenatchee Public Library, Chelan County, 310 Douglas St., Wenatchee, WA (509) 662-5021.

Internet

The DEIS is also available on the Internet at www.usbr.gov/pn.

Dated: March 11, 2004.
J. William McDonald,
Regional Director, Pacific Northwest Region.

[FR Doc. 04-11797 Filed 5-24-04; 8:45 am]

BILLING CODE 4310-MN-P